SOCIAL SECURITY ADMINISTRATION

Notice of Teleconferences

AGENCY: Social Security Administration (SSA).

ACTION: Notice of Teleconferences.

DATES:

July 9, 2001, 1:30 pm-3:30 pm (ET)

July 9, 2001, 3:30 pm-5:00 pm (ET)

July 25, 2001, 1:00 pm-3:30 pm (ET)

September 11, 2001, 1:30 pm-4:30 pm (ET)

September 12, 2001, 1:00 pm-3:30 pm (ET)

ADDRESSES: Ticket to Work and Work Incentives Advisory Panel Office, Social Security Administration,400 Virginia Avenue, SW, Suite 700, Washington, D.C. 20024.

Teleconferences:

Monday, July 9, 2001, 1:30 pm-3:30 pm (ET)

Evaluation and Design Committee Conference Call

Call-in number: 1-888-677-1801

Pass code: evaluation

Leader: Theda Zawaiza

Monday, July 9, 2001, 3:30 pm-5:00 pm (ET)

Ticket to Work and Work Incentives Advisory Panel Conference Call

Call-in number: 1-888-677-1801

Pass code: evaluation

Leader: Theda Zawaiza

Wednesday, July 25, 2001, 1:00 pm-3:30 pm (ET)

Planning and Operations Committee Conference Call

Call-in number: 1-888-552-9191

Pass code: 12211

Leader: Tamara Allen

Tuesday, September 11, 2001, 1:30 pm-4:30 pm (ET)

Evaluation and Design Committee Conference Call

Call-in number: 1-888-677-1801

Pass code: evaluation

Leader: Theda Zawaiza

Wednesday, September 12, 2001, 1:00 pm-3:30 pm (ET)

Planning and Operations Committee Conference Call

Call-in number: 1-888-396-9185

Pass code: 12211

Leader: Tamara Allen

SUPPLEMENTARY INFORMATION: Type of meetings: These teleconference meetings are open to the public. The interested public is invited to participate by coming to the address listed above or calling into the teleconferences. Public testimony will not be taken.

Purpose: In accordance with section 10(a)(2) of the Federal Advisory Committee Act, the Social Security Administration (SSA) announces a series of teleconference meetings of the Ticket to Work and Work Incentives Improvement Act (TWWIIA) Advisory Panel (the Panel) and the Committees thereof. Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

Agenda: The Panel, the Evaluation and Design Committee, and the Planning and Operations Committee will deliberate on the implementation of TWWIIA, conduct committee activities and administrative business. The agenda for these meetings will be posted on the Internet at http://www.ssa.gov/work/panel/ one week prior to the teleconference or can be received in advance electronically or by fax upon request. Records are being kept of all Panel proceedings and will be available for public inspection by appointment at the Panel office.

Contact Information: Anyone requiring information regarding the Panel should contact the TWWIIA Panel staff by mail addressed to Ticket to Work and Work Incentives Advisory Panel Staff, Social Security Administration, 700 Virginia Avenue, SW, Washington, DC, 20024, telephone contact with Kristen Breland at (202) 358-6423, fax at (202) 358-6440 or e-mail to TWWIIAPanel@ssa.gov.

Dated: June 29, 2001.
Deborah M. Morrison,
Designated Federal Officer.

[FR Doc. 01-16908 Filed 7-3-01; 10:46 am]

BILLING CODE 4191-02-U